COMMITTEE FOR PURCHASE FROM PEOPLE WHO ARE BLIND OR SEVERELY DISABLED

Procurement List; Additions and Deletion

AGENCY: Committee for Purchase From People Who Are Blind or Severely Disabled.

ACTION: Additions to and deletion from Procurement List.

SUMMARY: This action adds to the Procurement List services to be furnished by nonprofit agencies employing persons who are blind or have other severe disabilities, and deletes from the Procurement List a service previously furnished by such agencies.

DATES: Effective Date: July 23, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On April 28, 2006, the Committee for Purchase From People Who Are Blind or Severely Disabled published notice (71 FR 25135) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Dripping Springs, Aguirre Springs & Organ Mountain (Recreation Sites), Dripping Springs, New Mexico.

NPA: Tresco, Inc., Las Cruces, New Mexico.

Contracting Activity: Bureau of Land Management, Santa Fe, New Mexico.

Service Type/Location: Switchboard Operation, Carl Vinson VA Medical Center, 1826 Veterans Blvd, Dublin, Georgia.

NPA: Bobby Dodd Institute, Inc., Atlanta, Georgia.

Contracting Activity: VA Medical Center, Augusta, Georgia.

Deletion

On April 28, 2006, the Committee for Purchase From People Who Are Blind or Severely Disabled published notice (70 FR 25136) of proposed deletions to the Procurement List.

After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Repair & Clean Respirators, Robins Air Force Base, Robins AFB, Georgia.

NPA: Houston County Association for Exceptional Citizens, Inc., Warner Robins, Georgia.

Contracting Activity: Department of the Air Force.

G. John Heyer,
General Counsel.

[FR Doc. E6-9924 Filed 6-22-06; 8:45 am]

BILLING CODE 6353-01-P